FEDERAL COMMUNICATIONS COMMISSION

47 CFR Part 73

[DA 01-1734; MM Docket No. 98-162; RM-9263]

Radio Broadcasting Services; Sugar Hill and Toccoa, GA

AGENCY: Federal Communications Commission.

ACTION: Final rule.

SUMMARY: At the request of Southern Broadcasting of Pensacola, Inc. this document substitutes Channel 291C1 for Channel 291C at Toccoa, Georgia, reallots Channel 291C1 to Sugar Hill, Georgia, and modifies the license of Station WWNGC to specify operation on Channel 291C1 at Sugar Hill. See 63 FR 4968, published September 17, 1998. The reference coordinates for Channel 291C1 at Sugar Hill, Georgia, are 34-22-40 and 83-39-25.

DATES: Effective September 4, 2001.

FOR FURTHER INFORMATION CONTACT: Robert Hayne, Mass Media Bureau (202) 418-2177.

SUPPLEMENTARY INFORMATION: This is a synopsis of the Commission's Report and Order in MM Docket No. 98-162, adopted July 11, 2001, and released July 20, 2001. The full text of this decision is available for inspection and copying during normal business hours in the FCC's Reference Information Center at Portals II, CY-A257, 445 12th Street, SW., Washington, DC 20554. The complete text of this decision may also be purchased from the Commission's copy contractor, International Transcription Service, Inc., (202) 857-3800, 1231 20th Street, NW., Washington, DC 20036.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under Georgia, is amended by removing Toccoa, Channel 291C.

3. Section 73.202(b), the Table of FM Allotments under Georgia, is amended by adding Sugar Hill, Channel 291C1.

Federal Communications Commission.
John A. Karousos,
Chief, Allocations Branch, Policy and Rules Division, Mass Media Bureau.

[FR Doc. 01-18990 Filed 7-30-01; 8:45 am]

BILLING CODE 6712-01-P